DEPARTMENT OF COMMERCE

National Oceanic and Atmospheric Administration

[I.D. 032204C]

Gulf of Mexico Fishery Management Council; Public Meetings

AGENCY: National Marine Fisheries Service (NMFS), National Oceanic and Atmospheric Administration (NOAA), Commerce.

ACTION: Notice of meeting cancellation.

SUMMARY: The Gulf of Mexico Fishery Management Council (Council) will cancel the previously scheduled SEDAR Red Snapper Review Workshop. See SUPPLEMENTARY INFORMATION.

DATES: The meeting was scheduled to take place October 25-29, 2004.

ADDRESSES: Gulf of Mexico Fishery Management Council, 3018 U.S. Highway 301, North, Suite 1000, Tampa, FL 33619.

FOR FURTHER INFORMATION CONTACT: Mr. Wayne Swingle, Executive Director, Gulf of Mexico Fishery Management Council; telephone: (813) 228-2815.

SUPPLEMENTARY INFORMATION: The notice was published in the Federal Register on March 31, 2004 at 69 FR 16896.

The Gulf of Mexico, South Atlantic and Caribbean Fishery Management Councils, in conjunction with NOAA Fisheries and the Atlantic and Gulf States Marine Fisheries Commissions, have implemented the SEDAR process, a multi-step method for determining the status of fish stocks in the Southeast Region. SEDAR includes three workshops: (1) data workshop, (2) assessment workshop, and (3) review workshop. The SEDAR Red Snapper review workshop is being postponed until a second assessment workshop can be conducted in December. The new dates for the SEDAR Review Workshop will be released as soon as they become available.

Dated: October 8, 2004.
Alan D. Risenhoover,
Acting Director, Office of Sustainable Fisheries, National Marine Fisheries Service.

[FR Doc. E4-2601 Filed 10-13-04; 8:45 am]

BILLING CODE 3510-22-S